DEPARTMENT OF THE INTERIOR

Bureau of Land Management

[MT-912-0777-HN-003E]

Notice of Rescindment of Special Fire Closures in Billings, Missoula, Helena, Butte and Dillon Field Offices; MT

AGENCY: Bureau of Land Management, Interior.

ACTION: Notice.

SUMMARY: Pursuant to 43 Code of Federal Regulations 9212.2, the prohibitions listed in Order No. MT-00-03, MT-00-05, MT-00-06, applicable to Bureau of Land Management lands administered by the Billings, Missoula, Helena, Butte and Dillon Field Offices, dated August 11, 2000, August 17, 2000, and August 23, 2000, will be terminated at 12 noon Tuesday, September 5, 2000.

DATES: Restrictions are terminated at 12:01 pm (noon) on Tuesday, September 5, 2000.

ADDRESSES: Comments should be sent to BLM Montana State Director, Attention: Pat Mullaney, P.O. Box 36800, Billings, Montana 59107-6800.

FOR FURTHER INFORMATION CONTACT: Pat Mullaney, Fire Management Specialist, 406-896-2915.

Dated: September 5, 2000.
Roberta A. Moltzen,
Acting State Director.

[FR Doc. 00-23198 Filed 9-6-00; 12:37 pm]

BILLING CODE 4310-$$-P